APPALACHIAN STATES LOW-LEVEL RADIOACTIVE WASTE COMMISSION

Annual Meeting

Time and Date: 9:30 a.m.-12 p.m. November 7, 2001.

Place: Harrisburg Hilton and Towers, One North Second Street, Harrisburg, PA 17101.

Status: Most of the meeting will be open to the public. If there is a need for an executive session (closed to the public), it will be held at about 9:30 a.m.

Matters to be Considered: Portions Open to the Public: The primary purpose of this meeting is to (1) Review the independent auditors' report of Commission's financial statements for fiscal year 2000-2001; (2) Review the information on LLRW generation within the Appalachian Compact; (3) Discuss LLRW generation reporting requirements for the Compact; (4) Consider a proposed budget for fiscal year 2002-2003; (5) Review and discuss the recent developments in South Carolina and Utah related to the Barnwell and Envirocare disposal facilities; (6) Review the EPA's Final Rule on Mixed Low-Level Waste; and (7) Elect the Commission's officers.

Portions Closed to the Public: Executive Session, if deemed necessary, will be held at about 9:30 a.m.

Contact Person for More Information: Richard R. Janati, Pennsylvania Staff member on the Commission, at 717-787-2163.

Richard R. Janati,
Staff Member on the Commission.

[FR Doc. 01-26723 Filed 10-23-01; 8:45 am]

BILLING CODE 0000-00-P